DEPARTMENT OF AGRICULTURE

Animal and Plant Health Inspection Service

[Docket No. APHIS-2006-0126]

Request for Information; Potential Sites for a Sterile Fruit Fly Production Facility or Potential Alternate Sources of Sterile Fruit Flies

AGENCY: Animal and Plant Health Inspection Service, USDA.

ACTION: Notice; extension of submission period.

SUMMARY: We are extending the submission period for our notice that requests information from interested persons regarding potential sites for the production of sterile fruit flies or alternates sources of those flies. This action will allow interested persons additional time to prepare and submit information.

DATES: We will consider all submissions of information that we receive on or before February 1, 2007.

ADDRESSES: Any information should be submitted, in writing, to the person listed under FOR FURTHER INFORMATION CONTACT.

FOR FURTHER INFORMATION CONTACT: Mr. Michael B. Stefan, Director, Fruit Fly Exclusion and Detection Programs, PPQ, APHIS, 4700 River Road Unit 137, Riverdale, MD 20737-1229; (301) 734-4387.

SUPPLEMENTARY INFORMATION: On December 1, 2006, we published in the Federal Register (71 FR 69530-69531, Docket No. APHIS-2006-0126) a notice ¹ requesting the submission of information from interested persons regarding potential sites for the production of sterile fruit flies or alternate sources of those flies.

¹ To view the notice, go to http://www.regulations.gov, click on the “Advanced Search” tab, and select “Docket Search.” In the Docket ID field, enter APHIS-2006-0126, then click on “Submit.” Clicking on the Docket ID link in the search results page will produce a list of all documents in the docket.

Submissions of information in response to the notice were required to be received on or before January 2, 2007. We are extending the submission period on Docket No. APHIS-2006-0126 for an additional 30 days. This action will allow interested persons additional time to prepare and submit information.

Done in Washington, DC this 28th day of December 2006.
Kevin Shea,
Acting Administrator, Animal and Plant Health Inspection Service.

[FR Doc. E6-22638 Filed 1-4-07; 8:45 am]

BILLING CODE 3410-34-P